DEPARTMENT OF HEALTH AND HUMAN SERVICES

Centers for Medicare & Medicaid Services

Privacy Act of 1974; Matching Program; Correction

AGENCY: Centers for Medicare & Medicaid Services, Department of Health and Human Services.

ACTION: Notice; correction.

SUMMARY: The Department of Health and Human Services (HHS), Centers for Medicare & Medicaid Services (CMS) published a notice of a new (re-established) matching program in the Federal Register of November 18, 2025, describing a matching program between CMS and State-Based Administering Entities (AEs), titled “Determining Eligibility for Enrollment in Applicable State Health Subsidy Programs Under the Patient Protection and Affordable Care Act.” The notice failed to include a plain-language description of the matching program in the Summary, stated incorrect dates, and mistakenly used the term “return information” instead of “Federal Tax Information (FTI)” consistently throughout.

FOR FURTHER INFORMATION CONTACT: If you have questions about the matching program, you may contact: Robert Yates, Deputy Director, Division of State and Grant Operations, State Marketplace and Insurance Programs Group, Center for Consumer Information and Insurance Oversight, Centers for Medicare & Medicaid Services, 7500 Security Blvd., Baltimore, MD 21224, or by email to Robert.Yates@cms.hhs.gov, or Jenny Chen, Director, Division of State Technical Assistance, State Marketplace and Insurance Programs Group, Center for Consumer Information and Insurance Oversight, Centers for Medicare & Medicaid Services, 7501 Wisconsin Ave., Bethesda, MD 20814, or by email to Jenny.Chen@cms.hhs.gov.

SUPPLEMENTARY INFORMATION:

Correction

In the Federal Register of November 18, 2025, in FR Doc. 2025-20058, on page 51764, in the first column, correct the “Summary” caption to read: In accordance with subsection (e)(12) of the Privacy Act of 1974, as amended, the Department of Health and Human Services (HHS), Centers for Medicare & Medicaid Services (CMS) is providing notice of the re-establishment of a matching program between CMS and State-Based Administering Entities (AEs), titled “Determining Eligibility for Enrollment in Applicable State Health Subsidy Programs Under the Patient Protection and Affordable Care Act (PPACA).” The matching program provides AEs with data CMS receives from federal agencies under other matching programs to use in determining individuals' eligibility for enrollment in state health subsidy programs under the Patient Protection and Affordable Care Act and to avoid dual enrollments.

In the Federal Register of November 18, 2025, in FR Doc. 2025-20058, on page 51764, in the first and second columns, correct the “Dates” caption to read: The deadline for comments on this notice is December 29, 2025. The re-established matching program will commence not sooner than 30 days after publication of this notice, provided no comments are received that warrant a change to this notice. The matching program will be conducted for an initial term of 18 months (from approximately January 2026 to July 2027) and, within three months of expiration, may be renewed for up to one additional year if the parties make no changes to the matching program and certify that the program has been conducted in compliance with the matching agreement.

In the Federal Register of November 18, 2025, in FR Doc. 2025-20058, on page 51765, in the first column, correct the “Categories of Records” caption to read: The categories of records that will be used in the matching program are identifying records; minimum essential coverage period records; Federal Tax Information (FTI) (household income and family size information); citizenship status records; birth and death information; disability coverage and income information; and imprisonment status records. The data elements CMS will receive from AEs may include: Social Security Number (if applicable), Last Name, First Name, and Date of Birth. The data elements the AEs will receive from CMS may include: Validation of SSN; Verification of citizenship or immigration status; Incarceration status; Eligibility and/or enrollment in certain types of MEC; Income, based on FTI, Title II benefits, and current income sources; Quarters of Coverage; and Death Indicator.

Barbara Demopulos,
Privacy Act Officer, Division of Security, Privacy Policy and Governance, Office of Information Technology, Centers for Medicare & Medicaid Services.

[FR Doc. 2025-21394 Filed 11-26-25; 8:45 am]

BILLING CODE 4120-03-P